DEPARTMENT OF THE INTERIOR

Minerals Management Service

[Docket No. MMS-2010-OMM-0018]

MMS Information Collection Activity: 1010-0067, Oil and Gas Well-Completion Operations, Extension of a Collection; Comment Request

AGENCY: Minerals Management Service (MMS), Interior.

ACTION: Notice of extension of an information collection (1010-0067).

SUMMARY: To comply with the Paperwork Reduction Act of 1995 (PRA), MMS is inviting comments on a collection of information that we will submit to the Office of Management and Budget (OMB) for review and approval. The information collection request (ICR) concerns the paperwork requirements in the regulations under 30 CFR 250, Subpart E, “Oil and Gas Well-Completion Operations.”

DATES: Submit written comments by June 11, 2010.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: go to http://www.regulations.gov. In the entry titled “Enter Keyword or ID,” enter docket ID MMS-2010-OMM-0018 then click search. Follow the instructions to submit public comments and view supporting and related materials available for this collection. The MMS will post all comments.

• Mail or hand-carry comments to the Department of the Interior; Minerals Management Service; Attention: Cheryl Blundon; 381 Elden Street, MS-4024; Herndon, Virginia 20170-4817. Please reference ICR 1010-0067 in your comment and include your name and return address.

SUPPLEMENTARY INFORMATION: Title: 30 CFR part 250, subpart E, Oil and Gas Well-Completion Operations.

OMB Control Number: 1010-0067.

Abstract: The Outer Continental Shelf (OCS) Lands Act, 43 U.S.C. 1331 et seq., and 43 U.S.C. 1801 et seq. requires the Secretary of the Interior to preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to the Minerals Management Service (MMS). To carry out these responsibilities, MMS issues regulations governing oil and gas and sulphur operations in the OCS. This ICR addresses 30 CFR part 250, subpart E, Oil and Gas Well-Completion Operations and the associated supplementary Notices to Lessees and Operators (NTL) intended to provide clarification, description, or explanation of these regulations.

Regulations at 30 CFR part 250 implement these statutory requirements. The MMS District Managers analyze and evaluate the information and data collected under Subpart E to ensure that planned well-completion operations will protect personnel safety and natural resources. They use the analysis and evaluation results in the decision to approve, disapprove, or require modification to the proposed well-completion operations. Specifically, MMS uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

We will protect information from respondents considered proprietary under the Freedom of Information Act (5 U.S.C. 552) and its implementing regulations (43 CFR part 2) and under regulations at 30 CFR 250.197, “Data and information to be made available to the public or for limited inspection.” No items of a sensitive nature are collected. Responses are mandatory.

Frequency: On occasion, weekly, monthly, annually, and varies by section.

Description of Respondents: Federal OCS oil, gas, or sulphur lessees and operators.

Estimated Reporting and Recordkeeping “Hour” Burden: The currently approved annual reporting burden for this collection is 18,756 hours. The following chart details the individual components and respective hour burden estimates of this ICR. In calculating the burdens, we assumed that respondents perform certain requirements in the normal course of their activities. We consider these to be usual and customary and took that into account in estimating the burden.

Citation 30 CFR 250 subpart E & LTL/NTL | Reporting requirement | Hour burden
Requests
502 | Request approval not to shut-in well during equipment movement | 1
512 | Request field well-completion rules be established, amended or canceled (on occasion; however, there have been no requests in many years) | 1
500-517 | General departure and alternative compliance requests not specifically covered elsewhere in Subpart E regulations | 2
Submittals
505; 513; 515(a) | Submit forms MMS-123, MMS-124, MMS-125 for various approvals, including remediation procedure for SCP [burden included in 1010-0141] | 0
514(c); 515(a) | Calculate well-control fluid volume and post near operator's station; submit well-control procedure | 1
517(b) | Pressure test, caliper, or otherwise evaluate tubing & wellhead equipment casing; submit results (every 30 days during prolonged operations) | 9
Document/Record/Retain
506 | Instruct crew members in safety requirements of operations to be performed; document meeting (weekly for 2 crews × 2 weeks per completion = 4) | 20 minutes
511 | Perform operational check of traveling-block safety device; document results (weekly × 2 weeks per completion = 2) | 30 minutes
LTL* | Record diagnostic test results | 30 minutes
516 tests; 516(i),(j) | Record BOP test results; retain records 2 years following completion of well (when installed; minimum every 7 days; as stated for component); request alternative methods | 30 minutes
516(d)(5) test; 516(i) | Function test annulars and rams; document results (every 7 days between BOP tests—biweekly; note: part of BOP test when conducted) | 30 minutes
516(e) | Record reason for postponing BOP system tests (on occasion) | 10 minutes
516(f) | Perform crew drills; record results (weekly for 2 crews × 2 weeks per completion = 4) | 30 minutes
LTL | Retain complete record of well's casing pressure for 2 years and retain diagnostic test records permanently | 1
Notify
502 | Notify MMS of well-completion rig movement on or off platform or from well to well on same platform (Form MMS-144) (cross ref. § 250.403) [burden included in 1010-0150] | 0
517(c); LTL/NTL | Notify MMS if sustained casing pressure is observed on a well | 1
LTL/NTL | Report failure of casing pressure to bleed to zero including plan to remediate | 6
NTL | Notify MMS when remediation procedure is complete. | 1
*LTL dated 13 January 1994.

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: April 6, 2010.
William S. Hauser,
Acting Chief, Office of Offshore Regulatory Programs.

[FR Doc. 2010-8195 Filed 4-9-10; 8:45 am]

BILLING CODE 4310-MR-P